SECURITIES AND EXCHANGE COMMISSION

[Release No. 34-102196; File Nos. SR-CboeBZX-2024-124; SR-CboeEDGX-2024-082; SR-CBOE-2024-056; SR-C2-2024-022]

Self-Regulatory Organizations; Cboe BZX Exchange, Inc.; Cboe EDGX Exchange, Inc.; Cboe Exchange, Inc.; Cboe C2 Exchange, Inc.; Notice of Withdrawal of Proposed Rule Change To Adopt Cboe Timestamping Service

January 15, 2025.

On December 13, 2024, Cboe BZX Exchange, Inc., Cboe EDGX Exchange, Inc., Cboe Exchange, Inc., and Cboe C2 Exchange, Inc. (“Exchanges”) filed with the Securities and Exchange Commission (“Commission”), pursuant to Section 19(b)(1) of the Securities Exchange Act of 1934 (“Act”) ¹ and Rule 19b-4 thereunder,² proposed rule changes to adopt the Cboe Timestamping Service, which is a market data service comprised of two distinct market data reports. The proposed rule changes were immediately effective upon filing with the Commission pursuant to Section 19(b)(3)(A) of the Act.³ On January 10, 2025, the Exchanges withdrew the proposed rule changes (SR-CboeBZX-2024-124; SR-CboeEDGX-2024-082; SR-CBOE-2024-056; SR-C2-2024-022).

¹ 15 U.S.C.78s(b)(1).

² 17 CFR 240.19b-4.

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

For the Commission, by the Division of Trading and Markets, pursuant to delegated authority.⁴
⁴ 17 CFR 200.30-3(a)(12).
Sherry R. Haywood,
Assistant Secretary.

[FR Doc. 2025-01413 Filed 1-21-25; 8:45 am]

BILLING CODE 8011-01-P